DEPARTMENT OF THE INTERIOR

National Park Service

[2253-665]

Notice of Intent To Repatriate Cultural Items: University of Michigan Museum of Anthropology, Ann Arbor, MI

AGENCY: National Park Service, Interior.

ACTION: Notice.

SUMMARY: The University of Michigan Museum of Anthropology, in consultation with the appropriate Indian tribe, has determined that the items meet the definition of sacred objects and repatriation to the Indian tribe stated below may occur if no additional claimants come forward. Representatives of any Indian tribe that believes itself to be culturally affiliated with the sacred objects may contact the University of Michigan Museum of Anthropology.

DATES: Representatives of any Indian tribe that believes it has a cultural affiliation with the cultural items should contact the University of Michigan Museum of Anthropology at the address below by August 26, 2011.

ADDRESSES: Ben Secunda, NAGPRA Project Manager, Office of the Vice President for Research, University of Michigan, 4080 Fleming Building, 503 Thompson St., Ann Arbor, MI 48109-1340, telephone (734) 647-9085.

SUPPLEMENTARY INFORMATION: Notice is here given in accordance with the Native American Graves Protection and Repatriation Act (NAGPRA), 25 U.S.C. 3005, of the intent to repatriate cultural items in the possession of the University of Michigan Museum of Anthropology, Ann Arbor, MI, that meet the definition of sacred objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

The five cultural items are one snake skin strap/belt (catalog number 23755), two medicine bags (catalog numbers 23756 and 22201), and two drums (catalog numbers 23759 and 23754). Between 1930 and 1940, these five objects were purchased by W. Vernon Kinietz on behalf of the University of Michigan Museum of Anthropology.

The first cultural object (23755) is a strap or belt made from the complete skin of a fox snake with the snake's jaw attached to the end of the strap. The strap is backed with blue wool fabric with a band of red cotton cloth that creates a border along the edges. Beading runs down the center of the wool fabric forming a floral design of red and white glass beads. This item was purchased by W. Vernon Kinietz in the 1930s from Mrs. Anna Scott and was accessioned into the museum in 1940.

The second cultural object (23756) is a bag made from weasel skin with five long loom-worked beaded pieces, four of the same length and one of greater length, that once attached to the bag. The beaded pieces have decorations of white, red, and blue zigzags with larger green beads and tassels attached to the ends. This item was purchased by W. Vernon Kinietz in the 1930s from Mrs. Anna Scott and was accessioned into the museum in 1940.

The third cultural object (22201) is a small bag made from a full weasel skin. The tail end of the bag is open. At the other end, the animal's head is tied shut by a white, blue, and red cotton ribbon. This item was donated to the museum by W. Vernon Kinietz in 1939.

The fourth cultural object (23754) is a hand drum made of thin hide stretched over a narrow wood frame. The hide is painted on one side with two red birds, possibly turkeys, and on the other side is a large red circle or disk. The drum is roughly 43.2 cm in diameter and 10.2 cm in height. The wooden frame has been damaged and the hide is no longer taut. On July 8, 1940, the drum was purchased from Mrs. Anna Scott by W. Vernon Kinietz.

The fifth cultural object (23759) is a tall drum made of wood with hide set in place by a cloth band. The wooden frame has a bottom and contains a small hole on one side that is plugged by a wooden peg. The drum measures approximately 43 cm in height and 29 cm in diameter. Museum records indicate that this drum was purchased from Jon Pete, a former chief of the Lac Vieux Desert Band of Lake Superior Chippewa Indians. The exact date of the purchase is unknown.

In consultation with Lac Vieux Desert Band of Lake Superior Chippewa representatives, and review of museum documentation and published literature, all five of these objects are determined to be sacred objects under NAGPRA. The materials and motifs of the strap (23755) were identified as being related to Midewiwin, a secret Medicine Society. Additionally, the tall wooden drum (23759) was identified as a water drum used in traditional Midewiwin ceremonies. The two weasel bags (22201 and 23756) were identified as medicine bags used to carry and hold sacred objects. The hand drum (23754) was found to be a dream drum used in naming ceremonies.

Determinations Made by the University of Michigan Museum of Anthropology

Officials of the University of Michigan Museum of Anthropology have determined that:

• Pursuant to 25 U.S.C. 3001(3)(C), the five cultural items described above are specific ceremonial objects needed by traditional Native American religious leaders for the practice of traditional Native American religions by their present-day adherents.

• Pursuant to 25 U.S.C. 3001(2), there is a relationship of shared group identity that can be reasonably traced between the sacred objects and the Lac Vieux Desert Band of Lake Superior Chippewa Indians, Michigan.

Additional Requestors and Disposition

Representatives of any other Indian tribe that believes itself to be culturally affiliated with the sacred objects should contact Ben Secunda, NAGPRA Project Manager, Office of the Vice President for Research, University of Michigan, 4080 Fleming Building, 503 Thompson St., Ann Arbor, MI 48109-1340, telephone (734) 647-9085, before August 26, 2011. Repatriation of the sacred objects to the Lac Vieux Desert Band of Lake Superior Chippewa Indians, Michigan, may proceed after that date if no additional claimants come forward.

The University of Michigan Office of the Vice President is responsible for notifying the Lac Vieux Desert Band of Lake Superior Chippewa Indians, Michigan, that this notice has been published.

Dated: July 20, 2011.
Sherry Hutt,
Manager, National NAGPRA Program.

[FR Doc. 2011-18999 Filed 7-26-11; 8:45 am]

BILLING CODE 4312-50-P